FEDERAL RETIREMENT THRIFT INVESTMENT BOARD

Notice of Board Meeting

DATES: April 26, 2022 at 10:00 a.m.

ADDRESSES: Telephonic. Dial-in (listen only) information: Number: 1-202-599-1426, Code: 676 492 751#; or via web: https://teams.microsoft.com/l/meetup-join/19%3ameeting_MzEwYTM0OTYtODE2Ny00MTU5LWIyYmQtNjgzNzFjMjJiOWRi%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the March 24, 2022 Board Meeting Minutes

2. Investment Manager Annual Service Review—BlackRock

3. Monthly Reports

(a) Participant Activity Report

(b) Legislative Report

4. Quarterly Reports

(c) Investment Policy

(d) Budget Review

(e) Audit Status

5. Annual Financial Audit

6. DOL Presentation

7. Converge Update

Closed Session

8. Information covered under 5 U.S.C. 552b(c)(9)(B).

Authority: 5 U.S.C. 552b(e)(1).

Dated: April 14, 2022.
Dharmesh Vashee,
General Counsel, Federal Retirement Thrift Investment Board.

[FR Doc. 2022-08297 Filed 4-18-22; 8:45 am]

BILLING CODE P